DEPARTMENT OF ENERGY

Chicago Operations Office; Office of Industrial Technologies (OIT); Notice of the Glass Industry of the Future Solicitation

AGENCY: Chicago Operations Office, DOE.

ACTION: Notice of Solicitation Availability.

SUMMARY: The U.S. Department of Energy announces its interest in receiving applications for federal assistance for cost shared research and development of technologies which will enhance economic competitiveness, reduce energy consumption and reduce environmental impacts of the U.S. glass industry. The key objective of this solicitation and the resulting projects are improvement of the manufacture of glass in the U.S. focusing on production efficiency, energy efficiency, environmental protection and recycling, and innovative types and/or uses of glass. These objectives are intended to be achieved through several avenues, including the development of improved technologies and better application of existing technologies.

DATES: The complete solicitation document will be available on or about February 15, 2000 on the Internet by accessing the DOE Chicago Operations Office Acquisition and Assistance Group Home Page at http://www.ch.doe.gov/business/ACQ.htm under the heading “Current Solicitations”, Solicitation No. DE-SC02-00CH11037. Applications are due on or about April 3, 2000. Awards are anticipated by August 1, 2000, pending availability of funding.

ADDRESSES: Completed applications must be submitted to: U.S. Department of Energy, Chicago Operations Office, Attn: David E. Ramirez, Bldg. 201, Communications Center, Room 168, 9800 South Cass Avenue, Argonne, IL 60439-4899.

FOR FURTHER INFORMATION CONTACT: David Ramirez at (630) 252-2133; by mail at U.S. Department of Energy, 9800 South Cass Avenue, Argonne, IL 60439-4899; by facsimile at (630) 252-5045; or by electronic mail at david.ramirez@ch.doe.gov.

SUPPLEMENTARY INFORMATION:

Background

DOE through its Office of Industrial Technologies (OIT) supports industries in their efforts to increase energy efficiency, reduce waste and increase productivity. The goal of OIT is to accelerate the development and use of advanced energy efficiency, renewable and pollution prevention technologies that benefit industry, the environment, and U.S. energy security. OIT's core program is the Industries of the Future Program (IOF), which focuses on basic materials and processing industries such as the glass industry.

Solicitation Topics

In keeping with the IOF strategy, this solicitation will seek applications for financial assistance in projects that address the research needs identified in one or more of the topical areas listed below:

A. Production Efficiency

New ways of improving product quality and increasing volume using existing furnaces must be developed if each manufacturing sector is to maintain its revenue. Applications will be sought in the areas of advanced technologies that can cost-effectively enhance glass-manufacturing capabilities.

B. Energy Efficiency

The industry believes the development of more energy-efficient manufacturing technologies will achieve significant energy savings and help to strengthen the competitiveness of glass products both internationally and with other materials, especially in the event that energy prices rise significantly. Applications will be sought in the areas of advanced technologies to effectively reduce the energy use in glass manufacturing.

C. Environment

The glass industry would be much better equipped to reduce emissions if it had a stronger understanding of the formation and fate of emissions in current processes, as well as a better understanding of the fundamental process mechanisms and chemical reactions involved. Applications will be sought for technology and underlying fundamental knowledge in reduced emissions and increased recycling.

D. Innovative Uses of Glass

The industry needs to develop more cost-effective manufacturing techniques to compete against other materials in new and existing markets, and support business and technical research to create completely new, innovative glass-containing products and processes in markets which previously did not use glass products. Applications will be sought for processing techniques and underlying fundamental knowledge that will enable improved or innovative glass products.

All projects must contribute to enhancing the economic competitiveness of the glass industry through significant benefits in energy and environmental quality. Subtopics and specific details under the above topical areas will be available in the solicitation document.

Type and Number of Anticipated Awards

It is the Government's intent to award approximately seven (7) to ten (10) Cooperative Agreements under this solicitation with a maximum estimated DOE funding of $500,000 per year for each Cooperative Agreement up to a three (3) year period, subject to the availability of funds. Total estimated Government funding for the solicitation is approximately $10 million for the maximum three-year period.

Application Requirements

Teaming arrangements will be required. Applications, which do not propose a teaming arrangement of at least two glass industry companies, will not be evaluated. A “glass industry company” is defined as a private (profit or non-profit) organization that manufactures glass and allied products or provides products or services to such manufacturers. In addition, raw material suppliers, equipment and technology suppliers, architectural and engineering companies, software and consulting firms, trade and professional associations, and research institutes, that routinely conduct a minimum of 10% of their business with glass industry manufacturers are within the scope of the definition.

Teams may also include, but are not limited to, universities, trade associations, DOE National Laboratories, and small businesses which facilitate technology transfer to the private sector, promote commercialization, and enhance U.S. competitiveness. Any non-profit or for-profit organization, university or other institution of higher education, or non-federal agency or entity is eligible to apply unless otherwise restricted by the Simpson-Craig Amendment.

Applicants are required to cost share a minimum of 50% of the total project costs to be incurred under the proposed project to be eligible for award under this solicitation. The minimum cost share requirement of 50% must be met for each year, phase, or budget period, as appropriate, under the proposed project. Teaming arrangements with DOE National Laboratories must be such that the Laboratory participation may not exceed 50% of the total estimated cost of the project.

In addition to the foregoing, other evaluation and selection criteria will be developed in accordance with 10 CFR 600.10—Form and Content of Applications and 10 CFR 600.13—Merit Review.

Issued in Argonne, Illinois, on January 20, 2000.
John D. Greenwood,
Manager, Acquisition and Assistance Group.

[FR Doc. 00-2060 Filed 1-31-00; 8:45 am]

BILLING CODE 6450-01-P